DEPARTMENT OF THE TREASURY

Internal Revenue Service

26 CFR Part 1

[TD 9568]

RIN 1545-BI47

Section 482; Methods To Determine Taxable Income in Connection With a Cost Sharing Arrangement; Correction

AGENCY: Internal Revenue Service (IRS).

ACTION: Final rule; correction.

SUMMARY: This document contains corrections to final regulations (TD 9568), which were published in the Federal Register on Thursday, December 22, 2011 (76 FR 80082), Relating to section 482 and methods to determine taxable income in connection with a cost sharing arrangement.

DATES: Effective January 25, 2012, and applicable beginning December 22, 2011.

FOR FURTHER INFORMATION CONTACT: Joseph L. Tobin at (202) 435-5265 (not a toll-free number).

SUPPLEMENTARY INFORMATION:

Background

The final regulations that are the subject of these corrections are under section 482 of the Internal Revenue Code.

Need for Correction

As published, final regulations (TD 9568), contains errors which may prove to be misleading and are in need of clarification.

Correction of Publication

Accordingly, the publication of the final regulations, (TD 9568), which were the subject of FR Doc. 2011-32458, is corrected as follows:

1. On page 80082, column one, in the preamble, under the caption DATES, lines 4 and 5, the language “1.482-8(c), 1.482-9(n), and 1.301-7701-1(f)” is corrected to read as “1.482-8(c), 1.482-9(n), and 301.7701-1(f).”

2. On page 80082, column one, in the preamble, under the caption, Paperwork Reduction Act, line one, the language “The collection of information” is corrected to read “The collections of information”.

3. On page 80086, column three, in the preamble, paragraph d. introductory text, the language “Contractual CWI Provisions—§ 1.482-1(d)(3)(ii)(C), Examples 3 through 7” is corrected to read “Contractual CWI Provisions—§ 1.482-7(h)(2)(iii)(C), Examples 3 through 7.”.

Guy R. Traynor,
Federal Register Liaison, Legal Processing Division, Publication and Regulations Branch, Procedure and Administration.

[FR Doc. 2012-894 Filed 1-24-12; 8:45 am]

BILLING CODE 4830-01-P